FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 7, 2003.

A. Federal Reserve Bank of Philadelphia (Michael E. Collins, Senior Vice President) 100 North 6th Street, Philadelphia, Pennsylvania 19105-1521:

1. James Wang and Ellen Ruth Kao Wang; Tony Yi Ping Wang and Michelle Yichun Yang; Ellot Hong Wai Wong and Michelle Wichun Yang; Aubrey Hui-Ju Wang, all of Gladwyne, Pennsylvania, and Janet Wang Calilung, Irvine, California; to acquire voting shares of Asian Financial Corporation, Philadelphia, Pennsylvania, and thereby indirectly acquire shares of Asian Bank, Philadelphia, Pennsylvania.

B. Federal Reserve Bank of Minneapolis (Richard M. Todd, Vice President and Community Affairs Officer) 90 Hennepin Avenue, Minneapolis, Minnesota 55480-0291:

1. Frederick Bernard Gariepy and the Peter Gariepy Estate Trust, Frederick Gariepy, as trustee, both of St. Ignatius, Montana; to retain control of Lake County Bank, St. Ignatius, Montana.

Board of Governors of the Federal Reserve System, July 18, 2003.
Robert deV. Frierson,
Deputy Secretary of the Board.

[FR Doc. 03-18782 Filed 7-23-03; 8:45 am]

BILLING CODE 6210-01-S